DEPARTMENT OF AGRICULTURE

Submission for OMB Review; Comment Request

November 30, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Homeowner Risk Reduction Behaviors Concerning Wildfire Risks.

OMB Control Number: 0596-NEW.

Summary of Collection: The threat of wildfire to residents located in areas next to forested public lands has increased significantly during the last decade. As homeowners migrate to areas that are at increasing risk from wildfire they face important decisions regarding how much risk to accept from various sources. An important component of making decisions regarding risk is to understand the behaviors that are effective at reducing the risk and the information sources that are considered reliable for risk reduction information. To gain a better insight into homeowners' perceptions of wildfire risk, behaviors that reduce wildfire, it is important to collect information directly from the homeowners that are at risk. The information will be collected using a survey instrument that is administered via the U.S. Postal Service. The type of information collected will include: (1) Risk perceptions regarding wildfire, (2) risk reduction behaviors associated with wildfire, (3) desired treatment options for forest management, and (4) socio-demographic information.

Need and Use of the Information: The data collected from the survey will benefit Forest Service (FS) and the communities that are surveyed. The data will be used to generate reports that are targeted toward FS personnel that are responsible for working with communities and homeowners in order to reduce the risks associated with wildfires. Without the information FS land managers and the public will continue to interact on the issues of wildfire risk without a broad-based understanding of the factors that lesson wildfire risk, factors that are important to homeowners.

Description of Respondents: Individuals or households.

Number of Respondents: 1,571.

Frequency of Responses: Reporting: On occasion.

Total Burden Hours: 538.

Charlene Parker,
Departmental Information Collection Clearance Officer.

[FR Doc. E6-20533 Filed 12-4-06; 8:45 am]

BILLING CODE 3410-11-P